FEDERAL RETIREMENT THRIFT INVESTMENT BOARD

Sunshine Act; Meeting

TIME AND DATE: 9 a.m. (e.s.t.), March 31, 2003.

PLACE: 4th Floor, Conference Room, 1250 H Street, NW., Washington, DC.

STATUS: Parts will be open to the public and parts closed to the public.

MATTERS TO BE CONSIDERED:

Parts Open to the Public

1. Approval of minutes of the February 20, 2003, Board member meeting.

2. Executive Director's report, including the following items:

a. Legislative report,

b. Investment, report,

c. Participation information,

d. Fiduciary insurance fund proposal; and

e. Hardship withdrawal policy changes.

3. Presentation by Barclays Global Investors.

4. Status of new record keeping system.

Parts Closed to the Public

5. Discussion of litigation matters.

6. Discussion of personnel matters.

CONTACT PERSON FOR MORE INFORMATION: Thomas J. Trabucco, Director, Office of External Affairs, (202) 942-1640.

Dated: March 18, 2003.
Elizabeth S. Woodruff,
Secretary to the Board, Federal Retirement Thrift Investment Board.

[FR Doc. 03-6863 Filed 3-18-03; 2:55 pm]

BILLING CODE 6760-01-M